DEPARTMENT OF HEALTH AND HUMAN SERVICES

Centers for Disease Control and Prevention

[60Day-05AM]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Program of Cancer Registries Annual Program Evaluation Instrument (NPCR-APEI)—New—National Center for Chronic Disease Prevention and Health Promotion (NCCDPHP), Centers for Disease Control and Prevention (CDC).

Background and brief description of the proposed project:

CDC is responsible for administering and monitoring the National Program of Cancer Registries (NPCR). As of 1999, CDC supported 45 states, 3 territories, and the District of Columbia for population-based cancer registries. (The 5 remaining states receive federal funding for the operations of cancer registries through the National Cancer Institute.)

The NPCR Annual Program Evaluation Instrument (NPCR-APEI) is needed in order to receive, process, evaluate, aggregate and disseminate NPCR program information. Data collected using this instrument will be used by the NPCR to evaluate various attributes of the registries funded by NPCR, monitor NPCR registries' progress towards program standards, goals, and objectives, and respond to data inquiries made by CDC and other agencies of the federal government. Some data for this instrument is pre-loaded, thus minimizing the burden on respondents. There are no costs to respondents except their time to participate in the survey.

Annualized Burden Table:

Respondents | Number of respondents | Number of responses per respondent | Average burden per responses (in hours) | Total burden in hours
NPCR Grantees | 49 | 1 | 1.5 | 73.5
Total |  |  |  | 73.5

Dated: November 26, 2004.
B. Kathy Skipper,
Acting Director, Management Analysis and Services Office, Centers for Disease Control and Prevention.

[FR Doc. 04-26657 Filed 12-2-04; 8:45 am]

BILLING CODE 4163-18-P